DEPARTMENT OF ENERGY

Federal Energy Regulatory Commission

Notice of Request To Use Alternative Procedures in Preparing a License Application

September 10, 2003.

Take notice that the following request to use alternative procedures to prepare a license application has been filed with the Commission.

a. Type of Application: Request to use alternative procedures to prepare a license application.

b. Project No.: P-2230-033.

c. Date filed: September 2, 2003.

d. Applicant: City and Borough of Sitka, Alaska.

e. Name of Project: Blue Lake Project.

f. Location: The existing project is located about 5 miles east of the City of Sitka, Alaska on Sawmill Creek (formerly the Medvetcha River).

g. Filed Pursuant to: Federal Power Act, 16 U.S.C. 791(a)—825(r).

h. Applicant Contact: Mike Prewitt, 105 Jarvis Street, Sitka, Alaska 99835; phone (626) 568-0798; e-mail dean@cityofsitka.com.

i. FERC Contact: Nick Jayjack at (202) 502-6073; e-mail Nicholas.Jayjack@ferc.gov.

j. Deadline for Comments: 30 days from the date of this notice.

All documents (original and eight copies) should be filed with: Magalie R. Salas, Secretary, Federal Energy Regulatory Commission, 888 First Street, NE., Washington, DC 20426.

Comments may be filed electronically via the Internet in lieu of paper. The Commission strongly encourages electronic filings. See 18 CFR 385.2001(a)(1)(iii) and the instructions on the Commission's Web site ( http://www.ferc.gov ) under the “eFiling” link.

k. The project consists of: (1) A211-foot-high arch dam at river mile 2.7 of Sawmill Creek; (2) a 1,225-surface-acre reservoir; (3) a 7,110-foot-long power conduit composed of tunnels and penstocks; (4) one main powerhouse and two smaller powerhouses together containing four generating units with a combined installed capacity of 7.54 megawatts; (5) a switchyard located adjacent to the main powerhouse; (6) a 69-kilovolt, 5-mile-long primary transmission line running from the switchyard to two substations in Sitka; (7) a 470-foot-long, underground transmission line and a 7,700-foot-long underground and overhead transmission line connecting the two smaller powerhouses to the switchyard; and (8) other appurtenant facilities. The project occupies 812 acres of lands administered by the U.S. Forest Service.

l. A copy of the request to use the alternative procedures is available for review at the Commission in the Public Reference Room or may be viewed on the Commission's Web site at http://www.ferc.gov using the “eLibrary” link. Enter the project number (P-2230) in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

m. City and Borough of Sitka, Alaska (the City) has demonstrated that it has made an effort to contact all federal and state resources agencies, non-governmental organizations (NGO), and others affected by the project. The City has also demonstrated that a consensus exists that the use of the alternative procedures is appropriate in this case. The City has submitted a communications protocol that is supported by the stakeholders.

The purpose of this notice is to invite any additional comments on the request to use the alternative procedures, pursuant to Section 4.34(i) of the Commission's regulations. Additional notices seeking comments on the specific project proposal, interventions and protests, and recommended terms and conditions will be issued at a later date. The City will complete and file a preliminary Environmental Assessment, in lieu of Exhibit E of the license application. This differs from the traditional process, in which an applicant consults with agencies, Indian tribes, NGOs, and other parties during preparation of the license application and before filing the application, but the Commission staff performs the environmental review after the application is filed. The alternative procedures are intended to simplify and expedite the licensing process by combining the pre-filing consultation and environmental review processes into a single process, to facilitate greater participation, and to improve communication and cooperation among the participants.

The City has met with Federal and State resources agencies and the public regarding the proposed project. It is expected that the City will file 6-month progress reports during the alternative procedures process leading to the filing of a license application.

Magalie R. Salas,
Secretary.

[FR Doc. 03-23659 Filed 9-16-03; 8:45 am]

BILLING CODE 6717-01-P